DEPARTMENT OF ENERGY

Federal Energy Regulatory Commission

[Project No. 1971-079]

Idaho Power Company; Idaho/Oregon; Errata Notice

August 31, 2006.

On August 11, 2006, the Commission issued a “Notice of Intent to Hold Public Meetings” for the above-referenced proceeding. The notice is corrected as follows:

All meetings times are local time.

Boise, ID

Date: September 7, 2006.

Time: 7 to 11 p.m. (MDT).

Place: Doubletree Hotel Boise Riverside.

Address: 2900 Chinden Blvd., Boise, ID.

Date: September 8, 2006.

Time: 10:00 a.m. to 2:00 p.m. (MDT).

Place: Doubletree Hotel Boise Riverside.

Address: 2900 Chinden Blvd., Boise, ID.

Halfway, OR

Date: September 11, 2006.

Time: 7 to 9 p.m. (PDT).

Place: Lions Hall.

Address: Center Street, Halfway, OR .

Weiser, ID

Date: September 12, 2006.

Time: 7 to 9 p.m. (MDT).

Place: Weiser Senior Center.

Address: 115 E. Main Street, Weiser, ID.

Lewiston, ID

Date: September 13, 2006.

Time: 7 to 9 p.m. (PDT).

Place: Lewiston Community Center.

Address: 1424 Main Street, Lewiston, ID 83501 (A parking lot is available on G Street behind the Community Center).

Magalie R. Salas,
Secretary.

[FR Doc. E6-14957 Filed 9-8-06; 8:45 am]

BILLING CODE 6717-01-P